DEPARTMENT OF COMMERCE

Foreign-Trade Zones Board

[S-65-2014]

Approval of Subzone Status, Panasonic System Communications Company of North America, Rockaway, New Jersey

On June 2, 2014, the Executive Secretary of the Foreign-Trade Zones (FTZ) Board docketed an application submitted by the New Jersey Department of State, grantee of FTZ 44, requesting subzone status subject to the existing activation limit of FTZ 44 on behalf of Panasonic System Communications Company of North America in Rockaway, New Jersey.

The application was processed in accordance with the FTZ Act and Regulations, including notice in the Federal Register inviting public comment (79 FR 32691-32692, 06-06-2014). The FTZ staff examiner reviewed the application and determined that it meets the criteria for approval. Pursuant to the authority delegated to the FTZ Board Executive Secretary (15 CFR 400.36(f)), the application to establish Subzone 44G is approved, subject to the FTZ Act and the Board's regulations, including Section 400.13, and further subject to FTZ 44's 447.5-acre activation limit.

Dated: July 25, 2014.
Andrew McGilvray,
Executive Secretary.

[FR Doc. 2014-18250 Filed 7-31-14; 8:45 am]

BILLING CODE 3510-DS-P